DEPARTMENT OF ENERGY

Notice of Change in DOE Office of Science Business Practices Notice 02-24; Implement Use of Industry Interactive Procurement System (IIPS)

AGENCY: Office of Science, Department of Energy.

ACTION: Notice of changeover to use of Industry Interactive Procurement System (IIPS).

SUMMARY: The U.S. Department of Energy, Office of Science, is announcing a fundamental change in the manner in which business will be conducted. A secure, web-enabled acquisition and financial assistance system, Industry Interactive Procurement System (IIPS), has been developed and is deployed. Effective June 1, 2002, this system will become the way our office receives competitive financial assistance applications. IIPS provides for the posting of solicitations, receipt of applications, and conducting of clarifications or discussions in a paperless environment via the Internet.

DATES: Effective June 1, 2002, applications must be submitted in PDF format through the IIPS system. (However, in order to allow sufficient time for all applicants to register and transition to the IIPS system, the Office of Science will continue to accept printed copies of applications until the end of the fiscal year, i.e., September 30, 2002.)

ADDRESSES: When submitting applications, applicants should use the IIPS web page, which is located at: http://e-center.doe.gov/.

FOR FURTHER INFORMATION CONTACT: Director, Grants and Contracts Division, Office of Science, SC-64, U.S. Department of Energy, 19901 Germantown Road, Germantown, MD 20874-1290. Applicants may call 301-903-5212, for information and assistance.

SUPPLEMENTARY INFORMATION: Since we are planning on issuing all solicitations electronically using IIPS, we want you to subscribe to IIPS, free of charge, to receive notifications of financial assistance opportunities in which you are interested. To subscribe to the electronic mailing list, you will need to go to our web site at: http://e-center.doe.gov/. From this page, click on the “register” button to initiate the subscription process. You will need to provide information similar to that required on the Standard Form 129, Solicitation Mailing List Application. Follow the instructions for “subscribing” to IIPS. Best practices suggest you browse the IIPS page frequently to ensure you are receiving the appropriate notices. In order to submit proposals or bids, you must register your firm or institution. To register, click on the “register” button on the IIPS home page, so you can choose to “register” or “register and subscribe” (this is a combination registration and subscription form). Clicking on either option opens a form for you to complete. As with the subscription form, you must complete all the required fields and click on the “submit” button at the bottom of the form. Should you need assistance, please feel free to contact the IIPS help desk at 800-683-0751, or by email at: (helpdesk@pr.doe.gov).

Office of Science solicitations will include as an attachment, the appropriate forms in PDF fillable format to be submitted with the proposal. All information submitted through IIPS must be in PDF format. Additional information about the Office of Science financial assistance programs is available at our home page, which is located at: http://www.sc.doe.gov/production/grants/grants.html. Please bookmark these pages and check back often.

This Notice remains in effect until it is succeeded by another issuance by the Office of Science.

Issued in Washington, DC on April 9, 2002.
John Rodney Clark,
Associate Director of Science for Resource Management.

[FR Doc. 02-9470 Filed 4-17-02; 8:45 am]

BILLING CODE 6430-02-U